DEPARTMENT OF COMMERCE

National Oceanic and Atmospheric Administration

[I.D. 040704A]

Endangered Fish and Wildlife; National Environmental Policy Act; Right Whale Ship Strike Reduction Regulations; Public Hearings

AGENCY: National Marine Fisheries Service (NMFS), National Oceanic and Atmospheric Administration (NOAA), Commerce.

ACTION: Notice of public hearings.

SUMMARY: NMFS will hold three public hearings in August 2006, to receive public comments on the North Atlantic right whale ship strike reduction strategy and draft environmental impact statement (DEIS) in Boston, MA; Baltimore, MD; and Jacksonville, FL.

DATES: See SUPPLEMENTARY INFORMATION under the heading "Hearing Dates, Times, and Locations" for the dates and locations of the public hearings.

FOR FURTHER INFORMATION CONTACT: Jessica Gribbon, Office of Protected Resources, NMFS, 1315 East-West Highway, Silver Spring, MD 20910; telephone: (301) 713-2322.

SUPPLEMENTARY INFORMATION: On July 7, 2006, the Environmental Protection Agency (EPA) published a Notice of Availability (NOA) in the Federal Register announcing the availability of the DEIS for implementation of the operational measures of the Right Whale Ship Strike Reduction Strategy for public comment and review. The public comment period on the DEIS is from July 7, 2006, to September 5, 2006. The public has the opportunity to submit comments on the document using following methods:

(1) E-mail: ShipStrike.EIS@noaa.gov.

(2) Mail: Chief, Marine Mammal and Sea Turtle Conservation Division, Attn: Right Whale Ship Strike Reduction Strategy DEIS, Office of Protected Resources, NMFS, 1315 East-West Highway, Silver Spring, MD 20910.

(3) Facsimile (fax) to: 301-427-2522, Attn: Right Whale Ship Strike Reduction Strategy DEIS.

(4) Public Hearings: Submit oral or written comments at public hearings for the DEIS.

NMFS has scheduled three public hearings on the DEIS. The purpose of these hearings is to provide an opportunity for the public to submit oral or written comments on the DEIS. The DEIS and information on these hearings can be found at > http://www.nmfs.noaa.gov/pr/shipstrike/.

Hearing Dates, Times, and Locations

The dates, times and locations of the hearings are as follows:

Tuesday, August 8, 2006 - Jacksonville, FL 1-4 p.m. - University of North Florida, University Center, Board of Trustees Room, 1200 Alumni Drive, Jacksonville, FL 32224.

Thursday, August 10, 2006 - Baltimore, MD 1-4 p.m. - Maryland Science Center, MSC Theater, 601 Light Street, Baltimore, MD 21230.

Monday, August 14, 2006 - Boston, MA 1-4 p.m. - Thomas (Tip) O'Neill, Federal Building, Auditorium, 10 Causeway Street, Boston, MA 02222.

Special Accommodations

These hearings are physically accessible to people with disabilities. Requests for sign language interpretation or other auxiliary aids should be directed to Jessica Gribbon, at (301) 713-2322, ext.153, at least 7 working days prior to the hearing date.

Dated: July 11, 2006.
Stewart Harris,
Acting Chief, Marine Mammal and Sea Turtle Conservation Division, Office of Protected Resources, National Marine Fisheries Service.

[FR Doc. E6-11272 Filed 7-14-06; 8:45 am]

BILLING CODE 3510-22-S